DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: An Evaluation of PASRR and Mental Health Services for Persons in Nursing Facilities—New

SAMHSA's Center for Mental Health Services is sponsoring an assessment of the effectiveness of the Preadmission Screening and Resident Review (PASRR) program, which is a required component of every State's Medicaid plan. Data will be collected from administrators and staff in 24 nursing facilities in four states (six facilities per state). In addition, data will be collected from a total of 100 residents of nursing facilities in two of the states. Data collection for this evaluation will be conducted over a 4-month period.

Nursing facility variables of interest include the following: availability of mental health services; change in condition procedures; alternative placement procedures; and experience with PASRR. Variables of interest for the nursing facility residents include: mental health symptomotology, functioning, and mental health service access. Data will be entered and managed electronically. The total estimated respondent burden is summarized in the table below.

Respondent | Number of respondents | Responses/ respondent | Average burden/response (hrs.) | Total burden (hrs.)
Nursing Facility Residents | 100 | 1 | .5 | 50
Nursing Facility Administrators | 24 | 1 | 1 | 24
Nursing Facility Staff | 48 | 1 | 1 | 48
Total | 172 |  |  | 122

Send comments to Nancy Pearce, SAMHSA Reports Clearance Officer, Room 16-105, Parklawn Building, 5600 Fishers Lane, Rockville, MD 20857. Written comments should be received within 60 days of this notice.

Dated: October 31, 2000.
Richard Kopanda,
Executive Officer, SAMHSA.

[FR Doc. 00-28476 Filed 11-6-00; 8:45 am]

BILLING CODE 4162-20-P